DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, email paperwork@hrsa.gov or call the HRSA Reports Clearance Office on (301) 443-1984.

The following request has been submitted to the Office of Management and Budget for review under the Paperwork Reduction Act of 1995:

Proposed Project: Patient Navigator Outreach and Chronic Disease Prevention Demonstration Program (OMB No. 0915-0346)—[Revision]

This is a revision to a data collection previously approved for the Patient Navigator Outreach and Chronic Disease Prevention Demonstration Program (PNDP). Authorized under section 340A of the Public Health Service Act, as amended by section 3510 of the Affordable Care Act, PNDP supports the development and operation of projects to provide patient navigator services to improve health outcomes for individuals with cancer and other chronic diseases, with a specific emphasis on health disparities populations. Award recipients are to use grant funds to recruit, assign, train, and employ patient navigators who have direct knowledge of the communities they serve in order to facilitate the care of those who are at risk for or who have cancer or other chronic diseases, including conducting outreach to health disparities populations. As authorized by the statute, an evaluation of the outcomes of the program must be submitted to Congress. The purpose of these data collection instruments, including navigated patient data intake, VR-12 health status, patient navigator survey, patient navigator encounter/tracking log, patient medical record and clinic data, clinic rates (baseline measures), quarterly reports, and focus group discussion guides is to provide data to inform and support the Report to Congress for: The quantitative analysis of baseline and benchmark measures; aggregate information about the patients served and program activities; and recommendations on whether patient navigator programs could be used to improve patient outcomes in other public health areas. A single instrument, the Client Opinion Form, has been added to this collection, resulting in an increase of 94.77 burden hours.

The annual estimate of burden is as follows:

Form | Number of respondents | Responses per respondent | Total responses | Hours per response | Total burden hours
Navigated Patient Data Intake Form | 4,827 | 1.00 | 4,827.00 | 0.500 | 2,413.50
VR-12 Health Status Form | 4,827 | 2.00 | 9,654.00 | 0.120 | 1,158.48
Client Opinion Form | 810 | 1.00 | 810.00 | 0.117 | 94.77
Sub Total-Patient Burden | 4,827 |  |  |  | 3,666.75
Patient Navigator Survey | 46 | 1.00 | 46.00 | 0.200 | 9.20
Patient Navigator Encounter/Target Services Log | 46 | 629.60 | 28,961.60 | 0.250 | 7,240.40
Patient Navigator Focus Group | 46 | 1.00 | 46.00 | 1.00 | 46.00
Sub Total-Patient Navigator Burden | 46 |  |  |  | 7,295.60
Patient Medical Record and Clinic Data | 10 | 482.70 | 4,827.00 | 0.170 | 820.59
Annual Clinic-Wide Clinical Performance Measures Report | 5 | 1.00 | 5.00 | 8.000 | 40.00
Patient Navigator Cultural Competency Checklist | 10 | 4.60 | 46.00 | 1.170 | 53.82
Patient Navigator/Health System Administrator Focus Group | 50 | 1.00 | 50.00 | 1.000 | 50.00
Grantee Health Care Provider Focus Group | 30 | 1.00 | 30.00 | 1.000 | 30.00
Social Service Provider Group | 50 | 1.00 | 50.00 | 1.000 | 50.00
Quarterly Report | 10 | 4.00 | 40.00 | 1.000 | 40.00
Sub Total-Grantee Burden | 165 |  |  |  | 1,084.41
Totals | 5,038 |  | 49,392.6 |  | 12,046.76

Written comments and recommendations concerning the proposed information collection should be sent within 30 days of this notice to the desk officer for HRSA, either by email to OIRA_submission@omb.eop.gov or by fax to 202-395-6974. Please direct all correspondence to the “attention of the desk officer for HRSA.”

Dated: June 7, 2012.
Reva Harris,
Acting Director, Division of Policy and Information Coordination.

[FR Doc. 2012-14324 Filed 6-12-12; 8:45 am]

BILLING CODE 4165-15-P